DEPARTMENT OF THE INTERIOR

Bureau of Indian Affairs

Collection of Water Delivery and Electric Service Data for the Operation of Irrigation and Power Projects and Systems: Proposed Collection of Water Delivery and Electric Service Data; Comment Request

AGENCY: Bureau of Indian Affairs, Interior.

ACTION: Notice.

SUMMARY: In compliance with the Paperwork Reduction Act of 1995, the Bureau of Indian Affairs (BIA) invites comments on two information collection requests which will be renewed. The two collections are: Electrical Service Application, 1076-0021, and Water Request, 1076-0141.

DATES: Comments must be received on or before December 2, 2002 to be assured of consideration.

ADDRESSES: Comments should be sent to: Ross Mooney, Bureau of Indian Affairs, Branch of Irrigation, Power, and Safety of Dams, Mail Stop 3061-MIB, Washington, DC 20240.

FOR FURTHER INFORMATION CONTACT: Interested persons may obtain copies of the information collection requests without charge by contacting Ross Mooney at (202) 208-5480, or facsimile number: (202) 219-0006.

SUPPLEMENTARY INFORMATION: The Paperwork Reduction Act of 1995 provides an opportunity for interested parties to comment on proposed information collection requests. The Bureau of Indian Affairs, Branch of Irrigation, Power, and Safety of Dams is proceeding with this public comment period as the first step in obtaining a normal information collection clearance from OMB. Each request contains (1) type of review, (2) title, (3) summary of the collection, (4) respondents, (5) frequency of collection, (6) reporting and record keeping requirements.

Please note that we will not sponsor nor conduct, and you need not respond to, a request for information unless we display the OMB control number and the expiration date.

Water Request

Type of review: Extension of a currently approved collection.

Title: Water Request 25 CFR 171.

Summary: In order for irrigators to receive water deliveries, information is needed by the BIA to operate and maintain its irrigation projects and fulfill reporting requirements. Section 171.7 of 25 CFR part 171, [Irrigation] Operation and Maintenance, specifies the information collection requirement. Water users must apply for water delivery. The information to be collected includes: name; water delivery location; time and date of requested water delivery; duration of water delivery; rate of water flow; number of acres irrigated; crop statistics; and other operational information identified in the local administrative manuals. Collection of this information is currently authorized under an approval by OMB (OMB Control Number 1076-0141). All information is collected at least annually from each water user with a response required each time irrigation water is provided. Annual reporting and record keeping burden for this collection of information is estimated to average 8 minutes per request. There is a range of 1 to 10 requests from each irrigation water user each season with an average of 5 responses per respondent. For all 5 responses, including the time for reviewing instructions, searching existing data sources, gathering and maintaining the data needed, and completing and reviewing the collection of information, the total per respondent is 40 minutes. The total number of respondents is estimated at 10,300 per year. Thus, the total annual reporting and record keeping burden for this collection is estimated to be 6,867 hours.

Frequency of Collection: On occasion.

Description of Respondents: BIA Irrigation Project Water Users.

Total Respondents: 10,300.

Total Annual Responses: 51,500.

Total Annual Burden Hours: 6,867 hours.

Electric Service Application

Type of review: Extension of a currently approved collection.

Title: Electric Service Application—25 CFR part 175.

Summary: In order for electric power consumers to be served, information is needed by the BIA to operate and maintain its electric power utilities and fulfill reporting requirements. Section 175.22 of 25 CFR part 175, Indian electric power utilities, specifies the information collection requirement. Power consumers must apply for electric service. The information to be collected includes: name; electric service location; and other operational information identified in the local administrative manuals. Collection of this information is currently authorized under an approval by OMB (OMB Control Number 1076-0021). All information is collected from each electric power consumer. Annual reporting and record keeping burden for this collection of information is estimated to average 30 minutes for each response for 3,000 respondents, including the time for reviewing instructions, searching existing data sources, gathering and maintaining the data needed, and completing and reviewing the collection of information. Thus, the total annual reporting and record keeping burden for this collection is estimated to be 1,500 hours.

Frequency of Collection: On Occasion.

Description of Respondents: BIA Electric Power Consumers.

Total Respondents: 3,000.

Total Annual Responses: 3,000.

Total Annual Burden Hours: 1,500 hours.

Request for Comments

The Bureau of Indian Affairs solicits comments in order to:

(1) Evaluate whether the proposed collection of information is necessary for the proper performance of the functions of the bureau, including whether the information will have practical utility;

(2) Evaluate the bureau's estimate of the burden of the proposed collection of information, including the validity of the methodology and assumptions used;

(3) Enhance the quality, utility, and clarity of the information to be collected; and

(4) Minimize the burden of the collection of information on those who are to respond. Any public comments will be addressed in the Bureau of Indian Affairs' submission of the information collect request to the Office of Management and Budget.

All comments are available for public review during regular business hours. There may be instance when we decide to withhold information, but if you wish us to withhold your name and address, you must state this prominently at the beginning of your comment. We will honor your request to the extent allowed by law. We will not consider anonymous comments, and we will make public all comments from businesses and from individuals who represent businesses.

Dated: September 24, 2002.
Neal A. McCaleb,
Assistant Secretary—Indian Affairs.

[FR Doc. 02-24819 Filed 9-30-02; 8:45 am]

BILLING CODE 4310-W7-P